DEPARTMENT OF COMMERCE

National Oceanic and Atmospheric Administration

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold meetings of its 110th Scientific and Statistical Committee (SSC), Joint Advisory Panel, Pelagic and International Standing Committee, Executive and Budget Standing Committee, and 154th Council to take actions on fishery management issues in the Western Pacific Region.

DATES: The meetings will be held June 19 through June 28, 2012. See SUPPLEMENTARY INFORMATION for specific dates, times and agendas of the meetings. All meetings will be held in Honolulu.

ADDRESSES: The 110th SSC, Pelagic and International Standing Committee, Executive and Budget Standing Committee and Joint Advisory Panel meetings will be held at the Council office, 1164 Bishop Street, Honolulu, HI 96813; telephone: (808) 522-8220. The 154th Council meeting will be held at the Laniakea YWCA-Fuller Hall, 1040 Richards Street, Honolulu, HI 96813; telephone: (808) 538-7061. The Fishers Forum will be held at the Harbor View Center, 1129 North Nimitz Hwy (Pier 38), Honolulu, HI; telephone: (808) 983-1200.

FOR FURTHER INFORMATION CONTACT: Kitty M. Simonds, Executive Director; telephone: (808) 522-8220.

SUPPLEMENTARY INFORMATION: The SSC will meet on June 19-21, 2012, between 8:30 a.m. and 5 p.m.; the Council's Joint Advisory Panel will meet on June 23, 2012 and June 25, 2012 between 9 a.m. and 5 p.m.; Pelagic and International Standing Committee will meet on June 25, 2012, from 10 a.m. to 12 noon; Executive and Budget Standing Committee will meet on June 25, 2012, between 12:30 p.m. and 3 p.m.; the 154th Council will meet on June 26-28, 2012. The 154th Council meeting will be held between 9 a.m. and 5:30 p.m. on June 26, 2012, between 8:30 a.m. and 5:30 p.m. on June 27, 2012, and between 8:30 a.m. and 4 p.m. on June 28, 2012. A Fishers Forum will be held in association with the 154th Council Meeting between 6 p.m. and 9 p.m. on Wednesday June 27, 2012.

In addition to the agenda items listed here, the SSC and Council will hear recommendations from Council advisory groups. Public comment periods will be provided throughout the agendas. The order in which agenda items are addressed may change. The meetings will run as late as necessary to complete scheduled business.

Schedule and Agenda for 110th SSC Meeting

8:30 a.m.-5 p.m., Tuesday, June 19, 2012

1. Introductions

2. Approval of Draft Agenda and Assignment of Rapporteurs

3. Status of the 109th SSC Meeting Recommendations

4. Report from the National Marine Fisheries Service Pacific Islands Fisheries Science Center Director

5. Program Planning

A. NMFS Science Plan

B. Cooperative Research Priorities

C. Fishery Data Collection Improvement Proposal

D. Territorial Essential Fish Habitat/Habitat Areas of Particular Concern (EFH/HAPC) review

E. Archipelagic Plan Team Report and Recommendations

F. National Bycatch Report update

G. Status of Stocks Report

H. Potential Revision of National Standard 1 Guidelines

I. Hawaii Plan Team Meeting Report and Recommendations

J. Council Coordination Committee (CCC) Meeting Report

K. Data Principles Meeting

L. Public Comment

M. SSC Discussion and Recommendations

6. Insular Fisheries

A. Territory Bottomfish Stock Assessments

B. Bottomfish Restricted Fishing Area (BRFA) Review

C. Acoustic Survey of Maui Bottomfish

D. Action Items

1. Setting Acceptable Biological Catch (ABC) for Main Hawaiian Islands (MHI) Deep Seven Bottomfish

2. Hawaii Bottomfish EFH and HAPC

E. Hawaii Plan Team Report

F. Public Comment

G. SSC Discussion and Recommendations

8:30 a.m.-5 p.m., Wednesday, June 20, 2012

7. Pelagic Fisheries

A. Action Item

1. Amendment Options for Marianas Purse Seine Area Closure

B. American Samoa and Hawaii Longline Quarterly Reports

C. Post-Release Mortality of Marlins and Other Pelagic Fish

1. Methods to Estimate Post-Release Mortality

2. Post-Release Mortality in Striped and Blue Marlin

D. International Fisheries Meetings

1. Eighth Regular Session of the Western and Central Pacific Fisheries Commission (WCPFC 8)

2. Inter-American Tropical Tuna Commission (IATTC) General Advisory Committee (GAC) and Scientific Sub-committee (SAC) meetings

E. Pelagic Plan Team Report

F. Public Comment

G. SSC Discussion and Recommendations

8. Protected Species

A. Update on Endangered Species Act (ESA) and Marine Mammal Protection Act (MMPA) Actions

1. Report on NMFS Pacific Islands Regional Office (PIRO) Actions

2. CCC Jeopardy Panel

B. Status Review Report of 82 Candidate Coral Species Petitioned Under the ESA

C. Marker Fish and Weak Hooks

D. Sea Turtle Advisory Committee Report and Recommendations

E. Public Comment

F. SSC Discussion and Recommendations

8:30 a.m.-5 p.m. Thursday, June 21, 2012

9. Other Business

A. 111th SSC Meeting

10. Summary of SSC Recommendations to the Council

Schedule and Agenda for the Joint Advisory Panel

9 a.m.-5 p.m., Saturday, June 23, 2012

1. Welcoming Remarks

2. Overview and Introductions

3. Review and Approval of the Agenda

4. Meeting Expectations

5. Reports on Fishery/Community Issues and Council Support

A. American Samoa

B. Guam

C. Commonwealth of the Northern Mariana Islands (CNMI)

D. Hawaii and Pacific Remote Island Areas (PRIAs)

6. Public Comment

7. Discussion and Recommendations

8. AP Training Workshops

A. The Council, Its Programs, and New Initiatives

B. Protected Species

C. Data and Stock Assessments

D. International Fisheries

E. Communications and Outreach

F. Public Commenting

G. Advisory Panel Tackle-Box

H. Discussion on How Council Can Help the Advisory Panel

9. Public Comment

10. Review of Recommendations

8 a.m.-5 p.m., Monday, June 25, 2012

11. Council Action Items

A. Status Review of Report and Management of 82 Candidate Coral Species Petitioned Under ESA

B. Hawaiian Green Sea Turtle Petition Finding

C. North Pacific Humpback Whale Populations in Alaska

D. Options for Marianas Purse Seine Area Closure

E. Recommendations on Territorial Bigeye Tuna Catch Limits

F. Recommendations on Main Hawaiian Islands Bottomfish Annual Catch Target

G. Recommendations on Cooperative Research Priorities

H. Public Comment

I. Discussion and Recommendations

12. Fish Aggregation Device (FAD) Issue Workshop

A. Introduction and Overview of FAD Issues in the Western Pacific Region

B. Case Study of Local Government FAD Program-State of Hawaii

C. Overview of FAD Permitting Process

i. US Coast Guard

ii. Army Corps of Engineers

D. Council's Community FAD Projects

E. Discussion on Private FAD Issues

F. FADs as a Spatial Management Tool

G. FAD Design and Locations

H. Public Comment

I. FAD Discussion and Recommendations

13. Other Business

14. Final Discussion and AP Recommendations

10 a.m.-12 noon, Monday, June 25, 2012

Pelagic and International Standing Committee Meeting

12:30 p.m.-3 p.m., Monday, June 25, 2012

Executive and Budget Standing Committee Meeting

Schedule and Agenda for Council Meeting

9 a.m.-5:30 p.m., Tuesday, June 26, 2012

1. Welcome and Introductions

2. Approval of the 154th Agenda

3. Approval of the 153rd Meeting Minutes

4. Executive Director's Report

5. Agency Reports

A. National Marine Fisheries Service

1. Pacific Islands Regional Office

2. Pacific Islands Fisheries Science Center

B. NOAA Regional Counsel

C. National Marine Sanctuary Program

D. U.S. Fish and Wildlife Service

E. Enforcement

1. U.S. Coast Guard

2. NMFS Office for Law Enforcement

3. NOAA General Counsel for Enforcement and Litigation

F. Public Comment

G. Council Discussion and Action

6. Program Planning and Research

A. Cooperative Research Priorities (Action Item)

B. Fishery Data Collection Improvement Proposal

C. Territorial EFH/HAPC Review

D. Report on Territory Bottomfish Stock Assessments

E. Report on Open Ocean Marine Protected Areas (MPAs) for Highly Migratory Species (HMS)—PIRO Grant to Marine Conservation Institute

F. Report on Education and Outreach Programs and Projects

G. Advisory Group Recommendations

1. Archipelagic Plan Team Report and Recommendations

2. Hawaii Plan Team Report and Recommendations

3. Data Principles Meeting Report

4. Joint Advisory Panel Report and Recommendations

H. SSC Recommendations

I. CCC Recommendations

1. Coastal and Marine Spatial Planning

2. Stock Assessment

3. National SSC Working Group

4. Report on CCC 5-Year Priorities Research Recommendations

5. Report on CCC Communications Recommendations

6. Managing Our Nation's Fisheries III

7. Electronic Monitoring

8. Report on NMFS proposal to revise National Standard 1 Guidelines

J. Public Hearing

K. Council Discussion and Action

7. Public Comment on Non-Agenda Items

8:30 a.m.-5:30 p.m., Wednesday, June 27, 2012

8. Protected Species

A. North Pacific Humpback Whale Population in Alaska

B. CCC Jeopardy Panel Report

C. Update ESA and MMPA Actions

1. General Update on ESA and MMPA Actions

2. Honu (Hawaiian Green Sea Turtle) ESA Petition Finding

3. Update on Hawaiian Monk Seal Critical Habitat Revisions

D. Status Review Report and Management Report of 82 Candidate Coral Species Petitioned under the ESA

E. Value of Marker Bigeye Tuna in Relation to Proposed False Killer Whale Management Measure

F. Advisory Group Recommendations

1. Joint Advisory Panel Meeting Report and Recommendations

2. Hawaii Regional Ecosystem Advisory Committee Report and Recommendations

3. Sea Turtle Advisory Committee Report and Recommendations

G. SSC Recommendations

H. Public Comment

I. Council Discussion and Action

9. American Samoa Archipelago

A. Motu Lipoti

B. Fono Report

C. Enforcement Issues

D. Community Activities and Issues

1. Update on Community Fisheries Development

E. American Samoa Marine Conservation Plan (Action Item)

F. Education and Outreach Initiatives

G. SSC Recommendations

H. Public Hearing

I. Council Discussion and Action

10. Marianas Archipelago

A. Island Reports

1. Arongo Flaeey

2. Isla Informe

B. Legislative Report

1. CNMI

2. Guam

C. Enforcement Issues

1. CNMI

2. Guam

D. Status of Guam Indigenous Fishing Rights Public Law 29-127

E. Community Activities and Issues

F. Education and Outreach Initiatives

G. Report of the Joint AP Meeting

H. SSC Recommendations

I. Public Comment

J. Council Discussion and Action

11. Pelagic & International Fisheries

A. Amendment Options for Marianas Purse Seine Area Closure (Action Item)

B. Recommendations on Territory Bigeye Tuna Catch Limits (Action Item)

C. Option for American Samoa Longline and Purse-Seine Landing Requirements (Action Item)

D. American Samoa and Hawaii Longline Quarterly Reports

E. International Fisheries Meetings

1. WCPFC 8

2. IATTC GAC/SAC

3. U.S. Report to the Tuna Commission

F. CCC Recommendation on International Fisheries Management

G. Pelagic Plan Team Report

H. SSC Discussion and Recommendations

I. Pelagic Standing Committee Report

J. Public Hearing

K. Council Discussion and Action

6 p.m.-9 p.m., Wednesday, June 27, 2012

Fishers Forum: Managing for the Recovery of the North Pacific Humpback Whale

8:30 a.m.-4 p.m., Thursday, June 28, 2012

12. Hawaii Archipelago and PRIAs

A. Moku Pepa

B. Legislative Report

C. Enforcement Report

D. Bottomfish

1. Report on BRFA Review

2. Update on Bottomfish Annual Catch Target

3. Recommendations on 2012-13 Main Hawaiian Islands Bottomfish

Annual Catch Target (Action Item)

4. Hawaii EFH/HAPC (Action Item)

E. Community Projects, Activities and Issues

1. Status of Aha Moku Legislation

2. Report on Aha Moku Projects

F. Advisory Group Recommendations

1. Joint AP Meeting Report and Recommendations

2. Hawaii Plan Team Meeting Report and Recommendations

3. Hawaii REAC Report and Recommendations

G. SSC Recommendations

H. Public Hearing

I. Council Discussion and Action

13. Administrative Matters

A. Financial Reports

B. Administrative Reports

C. Freedom of Information Act (FOIA) Requests

D. Council Family Changes

1. Data Committee

2. SSC Term Limits

3. Plan Team

E. Meetings and Workshops

1. Council Coordination Committee Meeting Report and Follow-up

i. Consultation with General Accountability Office (GAO) regarding Moving NMFS to U.S. Fish and Wildlife Service

ii. 2013 Budget

F. Report on Department of Commerce (DOC) Office of the Inspector General (OIG) Review of the Fishery Management Process

G. Other Business

H. Standing Committee Recommendations

I. Public Comment

J. Council Discussion and Action

14. Other Business

Non-Emergency issues not contained in this agenda may come before the Council for discussion and formal Council action during its 154th meeting. However, Council action on issues will be restricted to those issues specifically listed in this document and issues arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 29, 2012.
Tracey L. Thompson,
Acting Director, Office of Sustainable Fisheries, National Marine Fisheries Service.

[FR Doc. 2012-13282 Filed 6-4-12; 8:45 am]

BILLING CODE 3510-22-P